DEPARTMENT OF LABOR

Employment and Training Administration

[TA-W-63,542]

Home Depot, Store Number 0379, Opelousas, LA; Notice of Termination of Investigation

Pursuant to Section 221 of the Trade Act of 1974, as amended, an investigation was initiated on June 16, 2008 in response to a worker petition filed by a state agency representative on behalf of workers of Home Depot, Store Number 0379, Opelousas, Louisiana.

The petitioner has requested that the petition be withdrawn. Consequently, the investigation has been terminated.

Signed at Washington, DC this 18th day of June 2008.
Richard Church,
Certifying Officer, Division of Trade Adjustment Assistance.

[FR Doc. E8-14295 Filed 6-24-08; 8:45 am]

BILLING CODE 4510-FN-P